FEDERAL EMERGENCY MANAGEMENT AGENCY

44 CFR Part 65

Changes in Flood Elevation Determinations

AGENCY: Federal Emergency Management Agency (FEMA).

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency makes the final determinations listed below of the final determinations of modified base flood elevations for each community listed. These modified elevations have been published in newspapers of local circulation and ninety (90) days have elapsed since that publication. The Associate Director has resolved any appeals resulting from this notification.

The modified base flood elevations are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act

This rule is categorically excluded from the requirements of 44 CFR Part 10, Environmental Consideration. No environmental impact assessment has been prepared.

Regulatory Flexibility Act

The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§65.4 [Amended]

2. The tables published under the authority of § 65.4 are amended as follows:

State and county | Location | Dates and name of newspaper where notice was published | Chief executive officer of community | Effective date of modification | Community number
Alaska:
Kenai Peninsula Borough (FEMA Docket No. 7304) | City of Homer | September 21, 1999, September 28, 1999, Homer Tribune | The Honorable Jack Cushing, Mayor, City of Homer, 491 East Pioneer Avenue, Homer, Alaska 99603-7624 | August 25, 1999 | 020107
Arizona:
Greenlee (FEMA Docket No. 7304) | Town of Clifton | September 15, 1999, September 22, 1999, The Copper Era | Ms. Tonya L. Williams, Town Manager, Town of Clifton, P.O. Box 1415, Clifton, Arizona 85533 | August 23, 1999 | 040035
Maricopa (FEMA Docket No. 7304) | City of Peoria | August 13, 1999, August 20, 1999, Peoria Times | The Honorable John Keegan, Mayor, City of Peoria, 8401 West Monroe Street, Peoria, Arizona 85345 | July 6, 1999 | 040050
Pima (FEMA Docket No. 7304) | City of Tucson | September 23, 1999, September 30, 1999, The Arizona Daily Star | The Honorable George Miller, Mayor, City of Tucson, P.O. Box 27210, Tucson, Arizona 85726 | September 2, 1999 | 040076
Arkansas:
Pulaski (FEMA Docket No. 7304) | City of North Little Rock | September 10, 1999, September 17, 1999, Arkansas Democrat Gazette | The Honorable Patrick Henry Hays, Mayor, City of North Little Rock, P.O. Box 5757 North Little Rock, Arkansas 72119 | August 13, 1999 | 050182
California:
Riverside (FEMA Docket No. 7304) | City of Corona | August 20, 1999, August 27, 1999, The Press-Enterprise | The Honorable Bill Franklin, Mayor, City of Corona, P.O. Box 940, Corona, California 91718 | August 5, 1999 | 060250
Riverside (FEMA Docket No. 7304) | City of Indian Wells | September 15, 1999, September 22, 1999, The News Review | The Honorable Phil Bostley, Jr., Mayor, City of Indian Wells, 44-950 El Dorado Drive, Indian Wells, California 92210 | August 24, 1999 | 060254
Riverside, (FEMA Docket No. 7304) | City of Norco | August 20, 1999, August 27, 1999, The Press-Enterprise | The Honorable Bill Vaughan, Mayor, City of Norco, P.O. Box 428, Norco, California 91760-0428 | August 5, 1999 | 060256
Riverside (FEMA Docket No. 7304) | Unincorporated Areas | September 15, 1999, September 22, 1999, The Press Enterprise | The Honorable John Tavaglione, Chairman, Riverside County Board of Supervisors, P.O. Box 1646 Riverside, California 95202-1359 | August 24, 1999 | 060245
Ventura (FEMA Docket No. 7304) | City of San Buenaventura | August 19, 1999, August 26, 1999, Ventura County Star | The Honorable James J. Friedman, Mayor, City of San Buenaventura, P.O. Box 99, Ventura, California 93002-0099 | July 26, 1999 | 060419
Ventura (FEMA Docket No. 7304) | Unincorporated Areas | August 19, 1999, August 26, 1999, Ventura County Star | The Honorable Susan K. Lacey, Chairperson, Ventura County Board of Supervisors, 800 South Victoria Avenue, Ventura, California 93009 | July 26, 1999 | 060413
Colorado:
Arapahoe (FEMA Docket No. 7304) | Unincorporated Areas | August 19, 1999, August 26, 1999 The Villager | The Honorable Steve Ward, Chairperson, Arapahoe County Board of Commissioners, 5334 South Prince Street, Littleton, Colorado 80166-0060 | July 15, 1999 | 080011
Arapahoe (FEMA Docket No. 7304) | Unincorporated Areas | September 23, 1999, September 30, 1999, The Villager | The Honorable Steve Ward, Chairperson, Arapahoe County Board of Commissioners, 5334 South Prince Street, Littleton, Colorado 80166-0060 | August 26, 1999 | 080011
Kansas:
Johnson (FEMA Docket No. 7304) | City of Olathe | September 21, 1999, September 28, 1999, The Olathe Daily News | The Honorable Larry L. Campbell, Mayor, City of Olathe, P.O. Box 768, Olathe, Kansas 66051-0768 | August 18, 1999 | 200173
Johnson (FEMA Docket No. 7304) | City of Overland Park | September 3, 1999, September 10, 1999, Overland Park Sun | The Honorable Ed Eiler, Mayor, City of Overland Park, City Hall, 8500 Santa Fe Drive, Overland Park, Kansas 66212 | August 16, 1999 | 200174
Nebraska:
Douglas (FEMA Docket No. 7304) | City of Omaha | August 18, 1999, August 25, 1999, The Daily Record | The Honorable Hal Daub, Mayor, City of Omaha, 1819 Farman Street, Suite 300, Omaha, Nebraska 68183 | July 23, 1999 | 315274
New Mexico:
Sandoval (FEMA Docket No. 7304) | Unincorporated Areas | August 24, 1999, August 31, 1999, Santa Fe New Mexican | Ms. Debbie Hays, County Manager, Sandvol County, P.O. Box 40, Bernalillo, New Mexico 87004 | November 29, 1999 | 350055
Texas:
Collin (FEMA Docket No. 7304) | City of Allen | August 18, 1999, August 25, 1999, Allen American | The Honorable Kevin Lilly, Mayor, City of Allen, One Butler Circle Allen, Texas 75013 | November 23, 1999 | 480131
Bexar (FEMA Docket No. 7304) | Unincorporated Areas | August 27, 1999, September 3, 1999, San Antonio Express-News | The Honorable Cyndi Taylor Krier, Bexar County Judge, Bexar County Courthouse, 100 Dolorosa, San Antonio, Texas 78205-3036 | August 9, 1999 | 480035
Cameron (FEMA Docket No. 7304) | Unincorporated Areas | August 13, 1999, August 20, 1999, Brownsville Herald | The Honorable Gilberton Hinojosa, Cameron County Judge, 964 East Harrison, Brownsville, Texas 78520 | July 26, 1999 | 480101
Bexar (FEMA Docket No. 7304) | City of Castle Hills | August 27, 1999, September 3, 1999, San Antonio Express-News | The Honorable Bob Anderson, Mayor, City of Castle Hills, 6915 West Avenue, San Antonio, Texas 78213-1822 | August 9, 1999 | 480037
Denton (FEMA Docket No. 7304) | City of Coppell | August 13, 1999, August 20, 1999, Citizen's Advocate | The Honorable Candy Sheehan, Mayor, City of Coppell, 255 Parkway Boulevard, Coppell, Texas 75019 | July 6, 1999 | 480170
Denton (FEMA Docket No. 7304) | Town of Double Oak | August 20, 1999, August 27, 1999, Lewisville News | The Honorable Bill Wilkinson, Mayor, Town of Double Oak, City Hall, 100 Cross Timbers Drive, Double Oak, Texas 75067 | July 27, 1999 | 481516
El Paso (FEMA Docket No. 7304) | City of El Paso | September 23, 1999, September 30, 1999, El Paso Times | The Honorable Charles M. Ramirez, Mayor, City of El Paso, Two Civic Center Plaza, El Paso, Texas 79901-1196 | August 30, 1999 | 480214
Dallas (FEMA Docket No. 7304) | City of Farmers Branch | October 1, 1999, October 8, 1999, Metrocrest News | The Honorable Bob Phelps, Mayor, City of Farmers Branch, P.O. Box 819010, Farmers Branch, Texas 75381-9010 | September 1, 1999 | 480174
Denton (FEMA Docket No. 7304) | Town of Flower Mound | August 20, 1999, August 27, 1999, Lewisville News | The Honorable Lori DeLuca, Mayor, Town of Flower Mound, 2121 Cross Timbers Road, Flower Mound, Texas 75028 | July 27, 1999 | 480777
Collin (FEMA Docket No. 7304) | City of Frisco | August 13, 1999, August 20, 1999, Frisco Enterprise | The Honorable Kathy Seei, Mayor, City of Frisco, P.O. Box 1100, Frisco, Texas 75034 | July 13, 1999 | 480134
Tarrant (FEMA Docket No. 7304) | City of Hurst | August 11, 1999, August 18, 1999, Dallas Morning News | The Honorable Bill Sounder, Mayor, City of Hurst, 1505 Precinct Line Road, Hurst, Texas 76054 | July 15, 1999 | 480601
Denton (FEMA Docket No. 7304) | City of Lewisville | August 18, 1999, August 25, 1999, Lewisville News | The Honorable Bobbie J. Mitchell, Mayor, City of Lewisville, P.O. Box 299002, Lewisville, Texas 75029-9002 | July 22, 1999 | 480195
Parker (FEMA Docket No. 7304) | Unincorporated Areas | August 20, 1999, August 27, 1999, Weatherford Democrat | The Honorable Mark Riley, County Judge, One Courthouse Square, Weatherford, Texas 76086 | July 30, 1999 | 480520
Bexar (FEMA Docket No. 7304) | City of San Antonio | August 27, 1999, September 3, 1999, San Antonio Express-News | The Honorable Howard W. Peak, Mayor, City of San Antonio, P.O. Box 839966, San Antonio, Texas 78283-3966 | August 9, 1999 | 480045
Bexar (FEMA Docket No. 7304) | City of Shavano Park | August 27, 1999, September 3, 1999, San Antonio Express-News | The Honorable Tommy Peyton, Mayor, City of Shavano Park, 99 Sandletree Road, San Antonio, Texas 78231 | August 9, 1999 | 480047

(Catalog of Federal Domestic Assistance No. 83.100, “Flood Insurance.”)

Dated: January 28, 2000.
Michael J. Armstrong,
Associate Director for Mitigation.

[FR Doc. 00-2798 Filed 2-7-00; 8:45 am]

BILLING CODE 6718-04-P